DEPARTMENT OF HOUSING AND URBAN DEVELOPMENT

[Docket No. FR-5910-N-16]

60-Day Notice of Proposed Information Collection: Recordkeeping for HUD's Continuum of Care Program

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 25, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone (202) 402-3400 (this is not a toll-free number) or email at Colette.Pollard@hud.gov for a copy of the proposed forms or other available information. Persons with hearing or speech impairments may access this number through TTY by calling the toll-free Federal Relay Service at (800) 877-8339.

FOR FURTHER INFORMATION CONTACT: Norm Suchar, Director, Office of Special Needs Assistance Programs, Office of Community Planning and Development, Department of Housing and Urban Development, 451 7th Street SW., Room 7262, Washington, DC 20410; telephone (202) 708-5015 (this is not a toll-free number). Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Recordkeeping for HUD's Continuum of Care Program.

OMB Approval Number: 2506-0199.

Type of Request: Extension.

Form Number: N/A.

Description of the Need for the Information and Proposed Use: This submission is to request an extension of an Existing Collection in use with an OMB Control Number for the Recordkeeping for HUD's Continuum of Care Program. Continuum of Care program recipients will be expected to implement and retain the information collection for the recordkeeping requirements. The statutory provisions and implementing interim regulations govern the Continuum of Care Program recordkeeping requirements for recipient and subrecipients and the standard operating procedures for ensuring that Continuum of Care Program funds are used in accordance with the program requirements. To see the regulations for the new CoC program and applicable supplementary documents, visit HUD's Homeless Resource Exchange at https://www.onecpd.info/resource/2033/hearth-coc-program-interim-rule/.

Respondents (i.e. affected public): Continuum of Care program recipients and subrecipients.

Estimated Number of Respondents: The CoC record keeping requirements include 45 distinct activities. Each activity requires a different number of respondents ranging from 10 to 350,000. There are 366,500 unique respondents.

Estimated Number of Responses: 3,968,075.

Frequency of Response: Each activity has a unique frequency of response, ranging from once to 200 times annually.

Average Hours per Response: Each activity also has a unique associated number of hours of response, ranging from 15 minutes to 180 hours.

Total Estimated Burdens: The total number of hours needed for all reporting is 1,921,711 hours.

A | B | C | D | E | F |  |
Information Collection | Number of respondents | Frequency of response | Responses per annum | Burden hours per response | Annual burden hours | Hourly cost per response ($) | Annual cost ($)
§ 578.5(a) Establishing the CoC | 450 | 1 | 450 | 8 | 3,600 | 37.13 | 133,668.00
§ 578.5(b) Establishing the Board | 450 | 1 | 450 | 5 | 2,250 | 37.13 | 83,542.50
§ 578.7(a)(1) Hold CoC Meetings | 450 | 2 | 900 | 4 | 3,600 | 37.13 | 133,668.00
§ 578.7(a)(2) Invitation for New Members | 450 | 1 | 450 | 1 | 450 | 37.13 | 16,708.50
§ 578.7(a)(4) Appoint committees | 450 | 2 | 900 | 0.5 | 450 | 37.13 | 16,708.50
§ 578.7(a)(5) Governance charter | 450 | 1 | 450 | 7 | 3,150 | 37.13 | 116,959.50
§ 578.7(a)(6) and (7) Monitor performance and evaluation | 450 | 4 | 450 | 9 | 4,050 | 37.13 | 150,376.50
§ 578.7(a)(8) Centralized or coordinated assessment system | 450 | 1 | 450 | 8 | 3,600 | 37.13 | 133,668.00
§ 578.7(a)(9) Written standards | 450 | 1 | 450 | 5 | 2,250 | 37.13 | 83,542.50
§ 578.7(b) Designate HMIS | 450 | 1 | 450 | 10 | 4,500 | 37.13 | 167,085.00
§ 578.9 Application for funds | 450 | 1 | 450 | 180 | 81,000 | 37.13 | 3,007,530.00
§ 578.11(c) Develop CoC plan | 450 | 1 | 450 | 9 | 4,050 | 37.13 | 150,376.50
§ 578.21(c) Satisfying conditions | 8,000 | 1 | 8,000 | 4 | 32,000 | 37.13 | 1,188,160.00
§ 578.23 Executing grant agreements | 8,000 | 1 | 8,000 | 1 | 8,000 | 37.13 | 297,040.00
§ 578.35(b) Appeal—solo | 10 | 1 | 10 | 4 | 40 | 37.13 | 1,485.20
§ 578.35(c) Appeal—denied or decreased funding | 15 | 1 | 15 | 1 | 15 | 37.13 | 556.95
§ 578.35(d) Appeal—competing CoC | 10 | 1 | 10 | 5 | 50 | 37.13 | 1,856.50
§ 578.35(e) Appeal—Consolidated Plan certification | 5 | 1 | 5 | 2 | 10 | 37.13 | 371.30
§ 578.49(a)—Leasing exceptions | 5 | 1 | 5 | 1.5 | 7.5 | 37.13 | 278.48
§ 578.65 HPC Standards | 20 | 1 | 20 | 10 | 200 | 37.13 | 7,426.00
§ 578.75(a)(1) State and local requirements—appropriate service provision | 7,000 | 1 | 7,000 | 0.5 | 3,500 | 37.13 | 129,955.00
§ 578.75(a)(1) State and local requirements—housing codes | 20 | 1 | 20 | 3 | 60 | 37.13 | 2,227.80
§ 578.75(b) Housing quality standards | 72,800 | 2 | 145,600 | 1 | 145,600 | 37.13 | 5,406,128.00
§ 578.75(b) Suitable dwelling size | 72,800 | 2 | 145,600 | 0.08 | 11,648 | 37.13 | 432,490.24
§ 578.75(c) Meals | 70,720 | 1 | 70,720 | 0.5 | 35,360 | 37.13 | 1,312,916.80
§ 578.75(e) Ongoing assessment of supportive services | 8,000 | 1 | 8,000 | 1.5 | 12,000 | 37.13 | 445,560.00
§ 578.75(f) Residential supervision | 6,600 | 3 | 19,800 | 0.75 | 14,850 | 37.13 | 551,380.50
§ 578.75(g) Participation of homeless individuals | 11,500 | 1 | 11,500 | 1 | 11,500 | 37.13 | 426,995.00
§ 578.75(h) Supportive service agreements | 3,000 | 100 | 30,000 | 0.5 | 15,000 | 37.13 | 556,950.00
§ 578.77(a) Signed leases/occupancy agreements | 104,000 | 2 | 208,000 | 1 | 208,000 | 37.13 | 7,723,040.00
§ 578.77(b) Calculating occupancy charges | 1,840 | 200 | 368,000 | 0.75 | 276,000 | 37.13 | 10,247,880.00
§ 578.77(c) Calculating rent | 2,000 | 200 | 400,000 | 0.75 | 300,000 | 37.13 | 11,139,000.00
§ 578.81(a) Use restriction | 20 | 1 | 20 | 0.5 | 10 | 37.13 | 371.30
§ 578.91(a) Termination of assistance | 400 | 1 | 400 | 4 | 1,600 | 37.13 | 59,408.00
§ 578.91(b) Due process for termination of assistance | 4,500 | 1 | 4,500 | 3 | 13,500 | 37.13 | 501,255.00
§ 578.95(d)—Conflict-of-Interest exceptions | 10 | 1 | 10 | 3 | 30 | 37.13 | 1,113.90
§ 578.103(a)(3) Documenting homelessness | 300,000 | 1 | 300,000 | 0.25 | 75,000 | 37.13 | 2,784,750.00
§ 578.103(a)(4) Documenting at risk of homelessness | 10,000 | 1 | 10,000 | 0.25 | 2,500 | 37.13 | 92,825.00
§ 578.103(a)(5) Documenting imminent threat of harm | 200 | 1 | 200 | 0.5 | 100 | 37.13 | 3,713.00
§ 578.103(a)(7) Documenting program participant records | 350,000 | 6 | 2,100,000 | 0.25 | 525,000 | 37.13 | 19,493,250.00
§ 578.103(a)(7) Documenting case management | 8,000 | 12 | 96,000 | 1 | 96,000 | 37.13 | 3,564,480.00
§ 578.103(a)(13) Documenting faith-based activities | 8,000 | 1 | 8,000 | 1 | 8,000 | 37.13 | 297,040.00
§ 578.103(b) Confidentiality procedures | 11,500 | 1 | 11,500 | 1 | 11,500 | 37.13 | 426,995.00
§ 578.105(a) Grant/project changes—UFAs | 20 | 2 | 40 | 2 | 80 | 37.13 | 2,970.40
§ 578.105(b) Grant/project changes—multiple project applicants | 800 | 1 | 800 | 2 | 1,600 | 37.13 | 59,408.00
Total | 366,500 |  | 3,968,075 |  | 1,921,711 |  | 71,353,110.87

Annualized Cost @$37.13/hr (GS-12): $71,353,110.87.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 11, 2016.
Harriet Tregoning,
Principal Deputy Assistant Secretary for Community Planning and Development.

[FR Doc. 2016-23004 Filed 9-23-16; 8:45 am]

BILLING CODE 4210-67-P